DEPARTMENT OF TRANSPORTATION

Federal Aviation Administration

14 CFR Part 25

[Docket No. NM317; Special Conditions No. 25-328-SC]

Special Conditions: Airbus Model A380-800 Airplane, Flotation and Ditching

AGENCY: Federal Aviation Administration (FAA), DOT.

ACTION: Final special conditions.

SUMMARY: These special conditions are issued for the Airbus A380-800 airplane. This airplane will have novel or unusual design features when compared to the state of technology envisioned in the airworthiness standards for transport category airplanes. Many of these novel or unusual design features are associated with the complex systems and the configuration of the airplane, including its full-length double deck. For these design features, the applicable airworthiness regulations do not contain adequate or appropriate safety standards regarding flotation and ditching. These proposed special conditions contain the additional safety standards that the Administrator considers necessary to establish a level of safety equivalent to that established by the existing airworthiness standards. Additional special conditions will be issued for other novel or unusual design features of the Airbus Model A380-800 airplane.

DATES: Effective Date: The effective date of these special conditions is August 28, 2006.

FOR FURTHER INFORMATION CONTACT: Holly Thorson, FAA, International Branch, ANM-116, Transport Airplane Directorate, Aircraft Certification Service, 1601 Lind Avenue, SW., Renton, Washington 98055-4056; telephone (425) 227-1357; facsimile (425) 227-1149.

SUPPLEMENTARY INFORMATION:

Background

Airbus applied for FAA certification/validation of the provisionally-designated Model A3XX-100 in its letter AI/L 810.0223/98, dated August 12, 1998, to the FAA. Application for certification by the Joint Aviation Authorities (JAA) of Europe had been made on January 16, 1998, reference AI/L 810.0019/98. In its letter to the FAA, Airbus requested an extension to the 5-year period for type certification in accordance with 14 CFR 21.17(c).

The request was for an extension to a 7-year period, using the date of the initial application letter to the JAA as the reference date. The reason given by Airbus for the request for extension is related to the technical challenges, complexity, and the number of new and novel features on the airplane. On November 12, 1998, the Manager, Aircraft Engineering Division, AIR-100, granted Airbus' request for the 7-year period, based on the date of application to the JAA.

In its letter AI/LE-A 828.0040/99 Issue 3, dated July 20, 2001, Airbus stated that its target date for type certification of the Model A380-800 had been moved from May 2005, to January 2006, to match the delivery date of the first production airplane. In a subsequent letter (AI/L 810.0223/98 issue 3, dated January 27, 2006), Airbus stated that its target date for type certification is October 2, 2006. In accordance with 14 CFR 21.17(d)(2), Airbus chose a new application date of December 20, 1999, and requested that the 7-year certification period which had already been approved be continued. The FAA has reviewed the part 25 certification basis for the Model A380-800 airplane, and no changes are required based on the new application date.

The Model A380-800 airplane will be an all-new, four-engine jet transport airplane with a full double-deck, two-aisle cabin. The maximum takeoff weight will be 1.235 million pounds with a typical three-class layout of 555 passengers.

Type Certification Basis

Under the provisions of 14 CFR 21.17, Airbus must show that the Model A380-800 airplane meets the applicable provisions of 14 CFR part 25, as amended by Amendments 25-1 through 25-98. If the Administrator finds that the applicable airworthiness regulations do not contain adequate or appropriate safety standards for the Airbus A380-800 airplane because of novel or unusual design features, special conditions are prescribed under the provisions of 14 CFR 21.16.

In addition to the applicable airworthiness regulations and special conditions, the Airbus Model A380-800 airplane must comply with the fuel vent and exhaust emission requirements of 14 CFR part 34 and the noise certification requirements of 14 CFR part 36. In addition, the FAA must issue a finding of regulatory adequacy pursuant to section 611 of Public Law 93-574, the “Noise Control Act of 1972.”

Special conditions, as defined in 14 CFR 11.19, are issued in accordance with 14 CFR 11.38 and become part of the type certification basis in accordance with 14 CFR 21.17(a)(2), Amendment 21-69, effective September 16, 1991.

Special conditions are initially applicable to the model for which they are issued. Should the type certificate for that model be amended later to include any other model that incorporates the same novel or unusual design feature, the special conditions would also apply to the other model under the provisions of 14 CFR 21.101.

Discussion of Novel or Unusual Design Features

While the main deck of the A380-800 airplane has five pairs of type A exits, these are not sufficient for the total number of persons on board the airplane. Therefore, the upper deck exits must also be used as ditching exits. As a result, the upper deck exits are being equipped with slide/rafts. With two decks, there is the possibility of interference between the slides/rafts of the upper deck and the slide/rafts or rafts of the main deck.

Since 14 CFR part 25 does not address the use of upper deck exits as ditching exits, special conditions are necessary to ensure that occupants can be safely evacuated from these exits following a ditching event.

Discussion of Comments

Notice of Proposed Special Conditions No. 25-05-12-SC, pertaining to flotation and ditching, were published in the Federal Register on August 9, 2005 (70 FR 46115). Comments were received from the Airline Pilots Association (ALPA) and an individual commenter.

Requested change 1: ALPA suggests that in general the special conditions “should evaluate the arrangement and utility of the slide/rafts at each exit using a realistic range of aircraft configurations and sea state.”

Regarding proposed Special Condition b., ALPA recommends that “The demonstration of the boarding of the upper deck slide/rafts should be done using crewmembers from air carriers operating the aircraft. In addition, these crewmembers should have had no training beyond that which will be provided to regular line crewmembers.”

FAA response: Demonstrations of the slide/rafts will consider a realistic range of airplane configurations and sea states. These demonstrations and the associated crew training will be consistent with current practice. The A380-800 is not novel with respect to those matters. Therefore, we have made no change to the special conditions, as proposed.

Requested change 2: In terms of proposed Special Condition c., an individual commenter expressed concern about interference between the M3 slide/raft and other slide/rafts. ALPA commented that preventing such interference should not rely on crew procedures.

FAA response: Since the M3 exit will not be used as a ditching exit, proposed Special Condition c. is not included in these Final Special Conditions. Should this exit later be reinstated as a ditching exit, appropriate requirements will be developed for its use.

Applicability

As discussed above, these special conditions are applicable to the Airbus A380-800 airplane. Should Airbus apply at a later date for a change to the type certificate to include another model incorporating the same novel or unusual design features, these special conditions would apply to that model as well under the provisions of § 21.101.

Conclusion

This action affects only certain novel or unusual design features of the Airbus A380-800 airplane. It is not a rule of general applicability.

List of Subjects in 14 CFR Part 25

Aircraft, Aviation safety, Reporting and recordkeeping requirements.

The authority citation for these special conditions is as follows:

Authority: 49 U.S.C. 106(g), 40113, 44701, 44702, 44704.

The Special Conditions

Accordingly, pursuant to the authority delegated to me by the Administrator, the following special conditions are issued as part of the type certification basis for the Airbus A380-800 airplane.

In addition to the requirements of §§ 25.801, 25.807(i), 25.810, 25.1411, and 25.1415, the following special conditions apply:

a. For door sill heights that would be greater than six (6) feet above the waterline during a ditching event, an assist means must be provided from the airplane to the water.

b. Boarding of the upper deck slide/rafts must be demonstrated for the rated and overload capacity of the slide/rafts from the representative door sill heights associated with planned and unplanned ditching. The boarding procedure must ensure that the occupants boarding the slide/rafts remain on the slide/raft whether the occupants enter the slide/raft or raft by walking, jumping or sliding. In addition, the boarding procedure must not result in injury either to occupants entering the slide/raft or to occupants already in the slide/raft.

c. It must be demonstrated that the upper deck slide/rafts located at doors U1 and U2 (just forward and just aft of the wing) can be safely separated from the airplane. Safety considerations include damage to the slide/rafts, injury to occupants of the slide/raft, ejection of the occupants from the slide/raft into the water as a result of the contact with the wing, and the slide/raft becoming beached on the wing. Probable damage to the wing leading and trailing edge flight control structure during a water landing must be considered when assessing the damage caused to the slide/rafts or life rafts.

d. It must be demonstrated that when the upper deck slide/rafts are separated from the airplane, they do not injure occupants of the slide/raft, eject occupants of the slide/raft into the water, or damage the slide/raft in a way that affects its seaworthiness.

Issued in Renton, Washington, on August 28, 2006
Ali Bahrami,
Manager, Transport Airplane Directorate, Aircraft Certification Service.

[FR Doc. E6-15012 Filed 9-8-06; 8:45 am]

BILLING CODE 4910-13-P